Title 3—

The President

Proclamation 9078—Martin Luther King, Jr., Federal Holiday, 2014

Correction

In Presidential document 2014-01413 beginning on page 3719 in the issue of Wednesday, January 22, 2014, make the following correction:

On page 3719, the date following the Proclamation number should read “January 16, 2014”.

[FR Doc. C1-2014-01413

Filed 1-24-14; 8:45 a.m.]

Billing Code 1505-01-D